DEPARTMENT OF HEALTH AND HUMAN SERVICES

Health Resources and Services Administration

Agency Information Collection Activities: Proposed Collection: Public Comment Request; Information Collection Request Title: Title V Maternal and Child Health Services Block Grant to States Program: Guidance and Forms for the Title V Application/Annual Report, OMB No. 0915-0172—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than July 5, 2023.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-1984.

SUPPLEMENTARY INFORMATION: When submitting comments or requesting information, please include the ICR title for reference.

Information Collection Request Title: Title V Maternal and Child Health Services Block Grant to States Program: Guidance and Forms for the Title V Application/Annual Report, OMB No. 0915-0172—Revision.

Abstract: The Title V Maternal and Child Health (MCH) Services Block Grant to States Program is authorized by Sections 501-509 of Title V of the Social Security Act (42 U.S.C. 701-709). HRSA is updating the Title V Maternal and Child Health Services Block Grant to States Program: Guidance and Forms for the Title V Application/Annual Report. This Guidance is used annually by the 50 states and nine jurisdictions ¹ (hereafter referred to as “State”) in applying for Block Grants under Title V of the Social Security Act and in preparing the required Annual Report. The updates being proposed by HRSA's Maternal and Child Health Bureau (MCHB) for this edition of the Guidance continue to support the Federal-State partnership that is supported by the Title V MCH Services Block Grant and the state's role in developing a 5-Year Action Plan that addresses its individual priority needs. These proposed updates build on and further refine the reporting structure and vision that was outlined in the previous edition. As such, they are intended to enable a state to articulate a comprehensive description of its Title V program activities and its leadership efforts in advancing and assuring a public health system that serves the MCH population. HRSA's proposed updates to this edition of the Guidance were informed by consultation with State Title V maternal and child health agencies, and by comments received from State Title V program leadership, national Maternal and Child Health leaders and other stakeholders.

¹ The following nine jurisdictions receive Title V Maternal and Child Health Block Grant Program funding: the District of Columbia, the Republic of the Marshall Islands, the Federated States of Micronesia, the Republic of Palau the Commonwealth of Puerto Rico, the US Virgin Islands, Guam, American Samoa, and the Commonwealth of the Northern Mariana Islands.

Specific updates to this edition of the Title V Maternal and Child Health Services Block Grant to States Program: Guidance and Forms for the Title V Application/Annual Report include the following:

(1) Requirements for narrative reporting have been adjusted to allow for streamlined reporting in the four interim years after the needs assessment, giving states the flexibility to update certain sections if they choose. Reporting for all narrative sections is required in the year of the Five-Year Needs Assessment.

(2) The requirements for state and program capacity narrative reporting have been reorganized and streamlined to eliminate duplication.

(3) Expectations around state Title V reporting on family and community partnerships have been clarified. These expectations include enhanced discussion on program and financial planning and activities, the impact they have on the MCH population, and their value in improving outcomes.

(4) A greater emphasis on health equity as a guiding principle of the Title V program is noted. Discussion on this principle is incorporated in the needs assessment sections and the state action plan for each MCH population. States have the option to identify and set annual targets for priority populations under each National Performance Measure (NPM) and use prepopulated, stratified data to report annual progress.

(5) Reporting on the state's implementation of the Blueprint for Change: A National Framework for a System of Services for Children and Youth with Special Health Care Needs has been added for the children with special health care needs (CSHCN) domain, which includes reporting on the four critical areas in the Blueprint: health equity, family and child well-being and quality of life, access to services, and financing of services.

(6) The performance measure framework has been maintained; however, the NPMs and National Outcome Measures (NOMs) have been updated to reflect salient and emergent priorities at the state and national levels. The framework has been updated to include measure domain types for the NPMs. All NPMs are categorized by one of three types: clinical health systems; health behaviors; and social determinants of health. Within each MCH population health domain, there are at least three NPM options, with at least one NPM for each measure domain type. The exception is for CSHCN, where there is a greater focus on the need to improve clinical health systems.

(7) Two NPMs are identified as Universal NPMs that every state is required to address and report on in its Title V MCH Block Grant Application/Annual Report. The Universal NPMs serve to accelerate progress on priority areas with a focus on access and quality of primary and preventive care. The two Universal NPMs are: (1) NPM 1-Postpartum Visit in the Women/Maternal Health domain and (2) NPM 17-Medical Home in the Child Health and CSHCN domains. A state must report on a minimum of five NPMs, which includes the two Universal NPMs, with at least one NPM for each of the five MCH population domains. States have the flexibility to select as many NPMs and State Performance Measures (SPMs) as necessary to address each of its priority needs including the other NPMs within the Women/Maternal Health and CSHCN domains. There is no maximum for the number of NPMs that a state can select.

(8) A new set of Standardized Measures are available to select as SPMs. Similar to NOMs and NPMs, annual performance data for these SPMs will be prepopulated by MCHB from national data sources, if available, and provided to the states for their use. States will be able to target priority populations for MCH outcomes. The Standardized Measures set contains measures that were NPMs in the previous Guidance as well as former NOMs that function better as performance measures.

(9) A new form, Form 7: Title V Program Workforce, has been added to quantify the Title V-funded positions in the state. This form will be required only in the year of the Five-Year Needs Assessment, and these data will help assist technical assistance efforts to support workforce development.

Need and Proposed Use of the Information: Each year, all states are required to submit an Application/Annual Report for Federal funds for their Title V MCH Services Block Grant to States Program to HRSA's MCHB (sections 505(a) and 506(a)(1) of Title V of the Social Security Act). In addition, the state MCH Services Block Grant programs are required to conduct a state-wide, comprehensive needs assessment every five years. The information and instructions for the preparation and submission of this Application/Annual Report are contained in the Title V MCH Services Block Grant to States Program: Guidance and Forms for the Title V Application/Annual Report.

Likely Respondents: Likely respondents are state MCH agencies and other MCH stakeholders.

Burden Statement: Burden in this context means the time expended by persons to generate, maintain, retain, disclose, or provide the information requested. This estimate includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Application and Annual Report without Five-Year Needs Assessment Summary | 59 | 1 | 59 | 115 | 6,785
Application and Annual Report with Five Year Needs Assessment Summary | 59 | 1 | 59 | 181 | 10,679
Total | 59 |  | 59 |  | 17,464

States will use the updated edition of the Title V MCH Services Block Grant to States Program: Guidance and Forms for the Title V Application/Annual Report to prepare and submit the fiscal year (FY) 2025, FY 2026, and FY 2027 Applications/FY 2023, FY 2024, and FY 2025 Annual Report. In calendar year 2025, states will use the updated edition of the Title V MCH Services Block Grant to States Program: Guidance and Forms for the Title V Application/Annual Report to submit the next five-year needs assessment summary, as part of the FY 2026 Application/FY 2024 Annual Report.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-09635 Filed 5-4-23; 8:45 am]

BILLING CODE 4165-15-P